DEPARTMENT OF ENERGY

Federal Energy Regulatory Commission

Combined Notice of Filings #1

Take notice that the Commission received the following electric rate filings:

Docket Numbers: ER21-201-003.

Applicants: Atlantic City Electric Company, PJM Interconnection, L.L.C.

Description: Compliance filing: Atlantic City Electric Company submits tariff filing per 35: Atlantic City Electric Company Compliance Filing in ER21-201 to be effective 1/27/2020.

Filed Date: 9/22/23.

Accession Number: 20230922-5077.

Comment Date: 5 p.m. ET 10/13/23.

Docket Numbers: ER21-203-003.

Applicants: Baltimore Gas and Electric Company, PJM Interconnection, L.L.C.

Description: Compliance filing: Baltimore Gas and Electric Company submits tariff filing per 35: Baltimore Gas and Electric Co. Compliance Filing in ER21-203 to be effective 1/27/2020.

Filed Date: 9/22/23.

Accession Number: 20230922-5079.

Comment Date: 5 p.m. ET 10/13/23.

Docket Numbers: ER21-204-003.

Applicants: Commonwealth Edison Company, PJM Interconnection, L.L.C.

Description: Compliance filing: Commonwealth Edison Company submits tariff filing per 35: Commonwealth Edison Company Compliance Filing in ER21-204 to be effective 1/27/2020.

Filed Date: 9/22/23.

Accession Number: 20230922-5081.

Comment Date: 5 p.m. ET 10/13/23.

Docket Numbers: ER21-205-003.

Applicants: Delmarva Power & Light Company, PJM Interconnection, L.L.C.

Description: Compliance filing: Delmarva Power & Light Company submits tariff filing per 35: Delmarva Power & Light Compliance Filing in ER21-205 to be effective 1/27/2020.

Filed Date: 9/22/23.

Accession Number: 20230922-5073.

Comment Date: 5 p.m. ET 10/13/23.

Docket Numbers: ER21-206-003.

Applicants: Potomac Electric Power Company, PJM Interconnection, L.L.C.

Description: Compliance filing: Potomac Electric Power Company submits tariff filing per 35: PEPCO Compliance Filing in ER21-206 to be effective 1/27/2020.

Filed Date: 9/22/23.

Accession Number: 20230922-5075.

Comment Date: 5 p.m. ET 10/13/23.

Docket Numbers: ER21-209-003.

Applicants: PECO Energy Company, PJM Interconnection, L.L.C.

Description: Compliance filing: PECO Energy Company submits tariff filing per 35: PECO Compliance Filing in ER21-209 to be effective 1/27/2020.

Filed Date: 9/22/23.

Accession Number: 20230922-5078.

Comment Date: 5 p.m. ET 10/13/23.

Docket Numbers: ER23-2517-001.

Applicants: Midcontinent Independent System Operator, Inc., Ameren Illinois Company.

Description: Tariff Amendment: Midcontinent Independent System Operator, Inc. submits tariff filing per 35.17(b): 2023-09-22_SA 3028 Ameren IL-Prairie Power Project #39 Macomb Substitute to be effective 9/30/2023.

Filed Date: 9/22/23.

Accession Number: 20230922-5036.

Comment Date: 5 p.m. ET 10/13/23.

Docket Numbers: ER23-2813-001.

Applicants: Castle Solar, LLC.

Description: Tariff Amendment: Amendment to Market-Based Rate Application to be effective 11/12/2023.

Filed Date: 9/22/23.

Accession Number: 20230922-5042.

Comment Date: 5 p.m. ET 10/13/23.

Docket Numbers: ER23-2903-000.

Applicants: Midcontinent Independent System Operator, Inc.

Description: § 205(d) Rate Filing: 2023-09-22_SA 3277 Termination of EDF Renewables—OTP FCA (G359R) to be effective 9/23/2023.

Filed Date: 9/22/23.

Accession Number: 20230922-5022.

Comment Date: 5 p.m. ET 10/13/23.

Docket Numbers: ER23-2904-000.

Applicants: PJM Interconnection, L.L.C.

Description: § 205(d) Rate Filing: Amendment to WMPA, Service Agreement No. 5694; Queue No. AF1-022 to be effective 11/21/2023.

Filed Date: 9/22/23.

Accession Number: 20230922-5027.

Comment Date: 5 p.m. ET 10/13/23.

Docket Numbers: ER23-2905-000.

Applicants: Midcontinent Independent System Operator, Inc., MidAmerican Energy Company.

Description: § 205(d) Rate Filing: Midcontinent Independent System Operator, Inc. submits tariff filing per 35.13(a)(2)(iii: 2023-09-22_SA 2314 MidAmerican Lehigh-Webster 4th Rev FOA to be effective 9/23/2023.

Filed Date: 9/22/23.

Accession Number: 20230922-5032.

Comment Date: 5 p.m. ET 10/13/23.

Docket Numbers: ER23-2906-000.

Applicants: PJM Interconnection, L.L.C.

Description: § 205(d) Rate Filing: Amendment to ISA, Service Agreement No. 6108; Queue No. AE1-183 to be effective 11/21/2023.

Filed Date: 9/22/23.

Accession Number: 20230922-5045.

Comment Date: 5 p.m. ET 10/13/23.

Docket Numbers: ER23-2907-000.

Applicants: Pennsylvania Electric Company, PJM Interconnection, L.L.C.

Description: § 205(d) Rate Filing: Pennsylvania Electric Company submits tariff filing per 35.13(a)(2)(iii: PENELEC Amends 10 ECSAs (5437 5438 5507 5508 5511 5512 5514 5515 5567 5568) to be effective 12/31/9998.

Filed Date: 9/22/23.

Accession Number: 20230922-5051.

Comment Date: 5 p.m. ET 10/13/23.

Docket Numbers: ER23-2908-000.

Applicants: Midcontinent Independent System Operator, Inc.

Description: § 205(d) Rate Filing: 2023-09-22_Attachment X, Appendix 6-GIA, True-Up filing to be effective 10/21/2021.

Filed Date: 9/22/23.

Accession Number: 20230922-5055.

Comment Date: 5 p.m. ET 10/13/23.

Docket Numbers: ER23-2909-000.

Applicants: Midcontinent Independent System Operator, Inc.

Description: § 205(d) Rate Filing: 2023-09-22_SA 3241 Termination of Deuel Harvest Wind Energy-NSP-OTP FCA (J526) to be effective 9/23/2023.

Filed Date: 9/22/23.

Accession Number: 20230922-5059.

Comment Date: 5 p.m. ET 10/13/23.

Docket Numbers: ER23-2910-000.

Applicants: Tri-State Generation and Transmission Association, Inc.

Description: § 205(d) Rate Filing: Amendment to Rate Schedule FERC No. 354 to be effective 8/25/2023.

Filed Date: 9/22/23.

Accession Number: 20230922-5063.

Comment Date: 5 p.m. ET 10/13/23.

Docket Numbers: ER23-2911-000.

Applicants: Louisville Gas and Electric Company.

Description: Tariff Amendment: Notice of Cancellation KMPA NITSA Non-Conforming to be effective 9/6/2023.

Filed Date: 9/22/23.

Accession Number: 20230922-5069.

Comment Date: 5 p.m. ET 10/13/23.

Docket Numbers: ER23-2912-000.

Applicants: Alabama Power Company, Georgia Power Company, Mississippi Power Company.

Description: Tariff Amendment: Alabama Power Company submits tariff filing per 35.15: Camp Lawton Solar LGIA Termination Filing to be effective 9/22/2023.

Filed Date: 9/22/23.

Accession Number: 20230922-5085.

Comment Date: 5 p.m. ET 10/13/23.

Docket Numbers: ER23-2913-000.

Applicants: Southern California Edison Company.

Description: Tariff Amendment: Termination of Baldy Mesa LGIA (TOT851-Q1413/SA No. 256) to be effective 11/22/2023.

Filed Date: 9/22/23.

Accession Number: 20230922-5086.

Comment Date: 5 p.m. ET 10/13/23.

Docket Numbers: ER23-2914-000.

Applicants: PJM Interconnection, L.L.C.

Description: § 205(d) Rate Filing: Original NSA, Service Agreement No. 7077; Queue No. AE2-176 to be effective 11/22/2023.

Filed Date: 9/22/23.

Accession Number: 20230922-5094.

Comment Date: 5 p.m. ET 10/13/23.

Docket Numbers: ER23-2915-000.

Applicants: Chesapeake Solar Project, LLC.

Description: Baseline eTariff Filing: Chesapeake Solar Project, LLC Application for MBR Authorization to be effective 11/1/2023.

Filed Date: 9/22/23.

Accession Number: 20230922-5108.

Comment Date: 5 p.m. ET 10/13/23.

Docket Numbers: ER23-2916-000.

Applicants: Public Service Electric and Gas Company, PJM Interconnection, L.L.C.

Description: § 205(d) Rate Filing: Public Service Electric and Gas Company submits tariff filing per 35.13(a)(2)(iii: PSE&G Application for Abandoned Plant Incentive to be effective 11/22/2023.

Filed Date: 9/22/23.

Accession Number: 20230922-5109.

Comment Date: 5 p.m. ET 10/13/23.

Docket Numbers: ER23-2917-000.

Applicants: California Independent System Operator Corporation.

Description: § 205(d) Rate Filing: 2023-09-22 Subscriber Participating Transmission Owner Model Tariff Amendment to be effective 12/21/2023.

Filed Date: 9/22/23.

Accession Number: 20230922-5132.

Comment Date: 5 p.m. ET 10/13/23.

Docket Numbers: ER23-2918-000.

Applicants: Duke Energy Florida, LLC.

Description: § 205(d) Rate Filing: DEF-SECI RS No. 423 Reimbursement Agreement to be effective 11/22/2023.

Filed Date: 9/22/23.

Accession Number: 20230922-5150.

Comment Date: 5 p.m. ET 10/13/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 22, 2023.
Debbie-Anne A. Reese,
Deputy Secretary.

[FR Doc. 2023-21258 Filed 9-27-23; 8:45 am]

BILLING CODE 6717-01-P